DEPARTMENT OF TRANSPORTATION

Federal Aviation Administration

[Docket No. FAA-2025-1218]

Notice of Availability of Draft FAA Order 8000.95D, Change 1, Regarding Individual Designee Management Policy

AGENCY: Federal Aviation Administration (FAA), DOT.

ACTION: Notice of availability; request for comments.

SUMMARY: Draft FAA Order 8000.95D, Change 1, Designee Management Policy (Draft Change 1) would transition from the Designee Registration System to the Designee Management System (DMS) and would align the Order 8000.95 with the DMS tool workflows. The draft would revise several procedural descriptions to better match DMS workflows, including updates to digital signatures and automation for registering, enrolling, tracking, and recording designee training completions. The draft would also change the algorithm for the frequency of direct observation oversight intervals required of Flight Standards managing specialists and would update email addresses and website links.

DATES: Send comments on or before January 23, 2026.

ADDRESSES: Send comments identified by docket number FAA-2025-1218, using any of the following methods:

Federal eRulemaking Portal: Go to https://www.regulations.gov and follow the online instructions for sending your comments electronically.

Mail: Send comments to Docket Operations, M-30, U.S. Department of Transportation (DOT), 1200 New Jersey Avenue SE, Room W12-140, West Building Ground Floor, Washington, DC 20590-0001.

Hand Delivery or Courier: Take comments to Docket Operations in Room W12-140 of the West Building Ground Floor at 1200 New Jersey Avenue SE, Washington, DC, between 9 a.m., and 5 p.m., Monday through Friday, except Federal holidays.

Fax: Fax comments to Docket Operations at (202) 493-2251.

Privacy: In addition to the final Order 8000.95D, Change 1, the FAA will post all comments it receives, without change, to https://regulations.gov, including any personal information the commenter provides. DOT's complete Privacy Act Statement can be found in the Federal Register published on April 11, 2000 (65 FR 19476).

FOR FURTHER INFORMATION CONTACT: Mr. Scott Geddie, Policy and Oversight Integration Section, AVS-64, AVS ODA Office, Federal Aviation Administration, by telephone at 405-954-6897 or by email at Scott.Geddie@faa.gov.

SUPPLEMENTARY INFORMATION:

Background

Draft FAA Order 8000.95D, Change 1, Designee Management Policy (Draft Change 1) would transition from the Designee Registration System to the Designee Management System (DMS) and would align the Order 8000.95 with the DMS tool workflows. The revisions would align designee training procedures with the new features of the DMS tool. Draft Change 1 would revise Volume 3, Designated Pilot Examiner (DPE), Specialty Aircraft Examiner (SAE), and Administrative Pilot Examiner (Admin PE) Designee Policy to update the documentation of training, require designees to submit training certificates through DMS, and establish suspension protocols for incomplete training, while clarifying training terminology and categories. Draft Change 1 would update the web link for the training matrix in Volume 4, Designated Aircraft Dispatcher Examiner (DADE) Designee Policy. In Volume 5, Designated Mechanic Examiner (DME), Designated Parachute Rigger Examiner (DPRE), and Designated Airworthiness Representative—Maintenance (DAR-T) Designee Policy, Draft Change 1 would move training processes to the DMS system, automating updates to training records and streamlining scheduling and completion with automatic suspension and reinstatement for training compliance. Draft Change 1 would revise Volumes 3 (DPE, SAE and Admin PE Designee Policy), 5 (DME, DPRE, DAR-T Designee Policy), 6 (Aircrew Program Designee (APD)) Designee Policy, and 7 (Training Center Evaluator (TCE) Designee Policy) to change how direct observation oversight intervals are determined. In Volume 8, Designated Manufacturing Inspection Representative (DMIR) and Designated Airworthiness Representative—Manufacturing (DAR-F) Designee Policy, Draft Change 1 would revise training procedures to align with DMS workflows and standards for course information, registration, and automatic suspension and reinstatement for training compliance. In Volume 9, Designated Engineering Representative (DER) Designee Policy, Draft Change 1 would revise web links and sections related to engineering designee training for clarity and accuracy. In Volume 10, Designated Control Tower Operator Examiner (DCTO-E) Designee Policy, Draft Change 1 would update the requirements for demonstrated history of professional performance and established compliance with applicable standards, and would add an overall performance results table.

In addition to Draft Change 1's proposed changes to designee training and direct observation oversight intervals, other changes would include updating email addresses and website links, establishing digital signature provisions, providing early preapprovals to improve process efficiency, and removing outdated references to streamline the documentation.

Draft Order 8000.95D, Change 1 would affect all individual designee types. You may examine draft Order 8000.95D, Change 1 and the preferred comment log template for providing comments in the docket or at: https://www.faa.gov/aircraft/draft_docs/.

Comments Invited

The FAA invites the public to submit comments on draft Order 8000.95D, Change 1, as specified in the ADDRESSES section of this Notice. Commenters should include docket number FAA-2025-1218 and the subject line, “Comments to Draft FAA Order 8000.95D, Change 1” on all comments submitted to the FAA. The most helpful comments provide a specific recommendation, explain the reason for any recommended change, identify the paragraph(s) and/or subparagraph(s) associated with the recommendation, and include supporting information. The preferred comment log template can be used to provide this information. The FAA will consider all comments received on or before the closing date before issuing the final Order. The FAA will also consider late-filed comments if it is possible to do so without incurring expense or delay.

Authority: 49 U.S.C. 44702.

Scott A. Geddie,
Manager, AVS-64, Policy and Oversight Integration Section, AVS ODA Office.

[FR Doc. 2025-20741 Filed 11-21-25; 8:45 am]

BILLING CODE 4910-13-P